ENVIRONMENTAL PROTECTION AGENCY

[FRL-6879-5]

Notice of Availability of Draft Report on Dioxins/Furans Published in Response to the United States' Commitments in “The Great Lakes Binational Toxics Strategy”

AGENCY: Environmental Protection Agency.

ACTION: Notice of availability and opportunity to comment.

SUMMARY: The Great Lakes Binational Toxics Strategy; Canada-United States Strategy for the Virtual Elimination of Persistent Toxic Substances in the Great Lakes (the Strategy), was signed on April 7, 1997. The Strategy set forth a number of challenges to be met on the path toward virtual elimination of the Level I Strategy substances.

In addition, the Strategy identifies a four-step analytical process that Environment Canada and the United States Environmental Protection Agency, in cooperation with their partners, will use in working toward virtual elimination of the Level I Strategy substances. The four step process addresses technical and source-related information about the substances (step 1); the analysis of current regulations, initiatives and programs which manage or control the substances (step 2); the identification of cost-effective options to achieve further reductions (step 3); and the implementation of actions toward the goal of virtual elimination (step 4).

The draft report on Dioxins/Furans being made available for public comment relates to steps 1 and 2 of the analytical process.

DATES: The preliminary draft report will be made available to the public by September 29, 2000.

COMMENT PERIOD: Comments on the report must be submitted no later than November 30, 2000.

ADDRESSES: This report can be found on the Internet at the following address: http://www.epa.gov/glnpo/bns/. Commenters may transmit their comments electronically by following the directions provided on the website, or may send written comments to Nanjunda Gowda at the following address: U.S. EPA, Superfund Division, 77 West Jackson Boulevard, SRF-5J, Chicago, Illinois 60604.

FOR FURTHER CONTACT INFORMATION: Additional information on the draft report may be obtained by contacting Nanjunda Gowda by telephone (312) 353-9236 or by e-mail gowda.nanjunda@epa.gov.

Dated: September 15, 2000.
Gary Gulezian,
Acting Regional Administrator, Region 5.

[FR Doc. 00-25172 Filed 9-29-00; 8:45 am]

BILLING CODE 6560-50-P